DEPARTMENT OF ENERGY

Federal Energy Regulatory Commission

Combined Notice of Filings #1

Take notice that the Commission received the following electric rate filings:

Docket Numbers: ER12-2273-002.

Applicants: Public Service Company of Colorado.

Description: Compliance filing per 35: 2014-10-23_S408 Revised Att U-1 Comp Filing to be effective 8/1/2014.

Filed Date: 10/23/14.

Accession Number: 20141023-5056.

Comments Due: 5 p.m. ET 11/13/14.

Docket Numbers: ER14-2956-001.

Applicants: Hoopeston Wind, LLC.

Description: Tariff Amendment per 35.17(b): Supplemental to Hoopeston Wind to be effective 10/22/2014.

Filed Date: 10/22/14.

Accession Number: 20141022-5202.

Comments Due: 5 p.m. ET 11/12/14.

Docket Numbers: ER14-2957-001.

Applicants: PJM Interconnection, L.L.C.

Description: Tariff Amendment per 35.17(b): Errata to Notice of Cancellation of Original SA No. 3063, Queue No. W3-078 to be effective 4/2/2012.

Filed Date: 10/23/14.

Accession Number: 20141023-5098.

Comments Due: 5 p.m. ET 11/13/14.

Docket Numbers: ER14-2979-001.

Applicants: NV Energy, Inc.

Description: Compliance filing per 35: OATT Order No. 789 Compliance—Revisions to Schedules 5 and 6 Reserve Service to be effective 10/1/2014.

Filed Date: 10/22/14.

Accession Number: 20141022-5172.

Comments Due: 5 p.m. ET 11/12/14.

Docket Numbers: ER15-163-000.

Applicants: Southern California Edison Company.

Description: § 205(d) rate filing per 35.13(a)(2)(iii): GIA and Distribution Service Agmt with Longboat Solar, LLC to be effective 10/24/2014.

Filed Date: 10/23/14.

Accession Number: 20141023-5000.

Comments Due: 5 p.m. ET 11/13/14.

Docket Numbers: ER15-164-000.

Applicants: Southwest Power Pool, Inc.

Description: § 205(d) rate filing per 35.13(a)(2)(iii): 1636R13 Kansas Electric Power Cooperative, Inc. NITSA and NOA to be effective 8/1/2014.

Filed Date: 10/23/14.

Accession Number: 20141023-5048.

Comments Due: 5 p.m. ET 11/13/14.

Docket Numbers: ER15-165-000.

Applicants: Southwestern Public Service Company.

Description: § 205(d) rate filing per 35.13(a)(2)(iii): 2014-10-23_SPS-GSEC-DTA Agrmt-676-0.0.0—Filing to be effective 10/24/2014.

Filed Date: 10/23/14.

Accession Number: 20141023-5049.

Comments Due: 5 p.m. ET 11/13/14.

Docket Numbers: ER15-166-000.

Applicants: PJM Interconnection, L.L.C.

Description: § 205(d) rate filing per 35.13(a)(2)(iii): Service Agreement No. 4013; Queue No. Y1-080 to be effective 9/23/2014.

Filed Date: 10/23/14.

Accession Number: 20141023-5065.

Comments Due: 5 p.m. ET 11/13/14.

Docket Numbers: ER15-167-000.

Applicants: Arizona Public Service Company.

Description: § 205(d) rate filing per 35.13(a)(2)(iii): Rate Schedule No. 33—WAPA Triangle Agreement, Exhibit A Revision No. 49 to be effective 12/23/2014.

Filed Date: 10/23/14.

Accession Number: 20141023-5075.

Comments Due: 5 p.m. ET 11/13/14.

Docket Numbers: ER15-168-000.

Applicants: Glacial Energy Holdings.

Description: Notice of Cancellation of Glacial Energy Holdings.

Filed Date: 10/23/14.

Accession Number: 20141023-5099.

Comments Due: 5 p.m. ET 11/13/14.

Docket Numbers: ER15-169-000.

Applicants: New York State Electric & Gas Corporation.

Description: § 205(d) rate filing per 35.13(a)(2)(iii): NYSEG-DCEC Attachment C Annual Update to be effective 1/1/2015.

Filed Date: 10/23/14.

Accession Number: 20141023-5106.

Comments Due: 5 p.m. ET 11/13/14.

Docket Numbers: ER15-170-000.

Applicants: AEP Texas Central Company.

Description: § 205(d) rate filing per 35.13(a)(2)(iii): TCC-Javelina Wind Energy PDA Cancellation to be effective 9/29/2014.

Filed Date: 10/23/14.

Accession Number: 20141023-5112.

Comments Due: 5 p.m. ET 11/13/14.

Docket Numbers: ER15-171-000.

Applicants: AEP Texas Central Company.

Description: § 205(d) rate filing per 35.13(a)(2)(iii): TCC-Javelina Wind Energy SUA to be effective 10/2/2014.

Filed Date: 10/23/14.

Accession Number: 20141023-5118.

Comments Due: 5 p.m. ET 11/13/14.

Docket Numbers: ER15-172-000.

Applicants: AEP Texas Central Company.

Description: § 205(d) rate filing per 35.13(a)(2)(iii): TCC-Los Vientos Windpower V Interconnection Agreement to be effective 10/2/2014.

Filed Date: 10/23/14.

Accession Number: 20141023-5119.

Comments Due: 5 p.m. ET 11/13/14.

Docket Numbers: ER15-173-000.

Applicants: Appalachian Power Company.

Description: § 205(d) rate filing per 35.13(a)(2)(iii): Reactive Supply and Voltage Control Mitchell Amendment to be effective 12/31/2014.

Filed Date: 10/23/14.

Accession Number: 20141023-5122.

Comments Due: 5 p.m. ET 11/13/14.

Docket Numbers: ER15-174-000.

Applicants: Wheeling Power Company.

Description: § 205(d) rate filing per 35.13(a)(2)(iii): Reactive Supply and Voltage Control from Generation Sources Concurrence to be effective 12/31/2014.

Filed Date: 10/23/14.

Accession Number: 20141023-5123.

Comments Due: 5 p.m. ET 11/13/14.

Take notice that the Commission received the following electric securities filings:

Docket Numbers: ES14-53-000.

Applicants: Kansas City Power & Light Company.

Description: Amendment to September 12, 2014 Kansas City Power & Light Company Application for Authorization of Issuance of Short-Term Debt Securities Under Section 204 of the Federal Power Act.

Filed Date: 10/23/14.

Accession Number: 20141023-5012.

Comments Due: 5 p.m. ET 11/3/14.

Take notice that the Commission received the following electric reliability filings:

Docket Numbers: RR15-1-000.

Applicants: North American Electric Reliability Corp.

Description: Petition to Approve the Western Electricity Coordinating Council (WECC) Data Request Process of North American Electric Reliability Corporation.

Filed Date: 10/23/14.

Accession Number: 20141023-5120.

Comments Due: 5 p.m. ET 11/13/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 23, 2014.
Nathaniel J. Davis, Sr.,
Deputy Secretary.

[FR Doc. 2014-25829 Filed 10-29-14; 8:45 am]

BILLING CODE 6717-01-P